DEPARTMENT OF AGRICULTURE

Farm Service Agency

Information Collection; Minority Farm Register

AGENCY: Farm Service Agency, USDA.

ACTION: Notice; request for comments.

SUMMARY: In accordance with the Paperwork Reduction Act of 1995, the Farm Service Agency (FSA) is seeking comments from all interested individuals and organizations on an extension of a currently approved information collection for the Minority Farm Register. The Minority Farm Register is a voluntary register of minority farm and ranch operators, landowners, tenants and others with an interest in farming or agriculture. USDA Office of Advocacy and Outreach uses the collected information to better inform minority farmers about USDA programs and services.

DATES: We will consider comments that we receive by June 24, 2013.

ADDRESSES: We invite you to submit comments on this notice. In your comments, include date, volume, and page number of this issue of the Federal Register. You may submit comments by any of the following methods:

• Federal eRulemaking Portal: Go to http://regulations.gov. Follow the online instructions for submitting comments.

• Mail: Ternechue Butler, Outreach Specialist, Farm Service Agency, STOP 0539, 1400 Independence Avenue SW, Washington, DC 20250-0539.

Comments also should be sent to the Desk Officer for Agriculture, Office of Information and Regulatory Affairs, Office of Management and Budget, Washington, DC 20503. Copies of the information collection may be obtained from Ternechue Butler at the above address.

FOR FURTHER INFORMATION CONTACT: Ternechue Butler, Outreach Specialist, Farm Service Agency, (202) 720-6870.

SUPPLEMENTARY INFORMATION: Title: USDA Minority Farm Register.

OMB Number: 0560-0231.

Expiration Date: 10/31/2013.

Type of Request: Extension.

Abstract: The Minority Farm Register is a voluntary register of minority farm and ranch operators, landowners, tenants and others with an interest in farming or agriculture. The registrant's name, address, email, phone number, race, ethnicity, gender, farm location, and signature will be collected; however, the registrant's name, address, and signature are the only items required to register. Providing this information is completely voluntary. USDA's Office of Advocacy and Outreach will use this information to help inform minority farmers and ranchers about programs and services provided by USDA agencies.

The Minority Farm Register is maintained by FSA and jointly administered by FSA and USDA's Office of Advocacy and Outreach. Because USDA partners with community-based organizations, minority-serving educational institutions, and other groups to communicate USDA's program and services, the Office of Advocacy and Outreach may share information collected with these organizations for outreach purposes. The race, ethnicity, and gender of registrants may be used to provide information about programs and services that are designed for these particular groups. Information about the Minority Farm Register is available on the Internet to ensure that the program is widely publicized and accessible to all.

Respondents: Individuals and households.

Estimated Number of Respondents: 5000.

Estimated Average Number of Responses per Respondent: 1.

Estimated Total Annual Number of Responses: 5000.

Estimated average time to respond: 5 minutes (0.083 hours) and 1 hour traveling time.

Estimated Total Annual Burden on Respondents: 4667 hours.

We are requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility, and clarity of the information to be collected;

(4) Minimize the burden of the collection of information on those who are to respond, including through the use of appropriate automated, electronic, mechanical, or other technological collection techniques or other forms of information technology.

All responses to this notice, including name and addresses when provided, will be summarized and included in the request for OMB approval. All comments will also become a matter of public record.

Signed on April 10, 2013.
Juan M. Garcia,
Administrator, Farm Service Agency.

[FR Doc. 2013-09745 Filed 4-24-13; 8:45 am]

BILLING CODE 3410-05-P